DEPARTMENT OF HOMELAND SECURITY

Federal Emergency Management Agency

[Docket ID FEMA-2014-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of September 3, 2014 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov. The flood hazard determinations are made final in the watersheds and/or communities listed in the table below.

I. Non-Watershed-Based Studies

Community | Community map repository address
Houston County, Alabama, and Incorporated Areas
Docket No.: FEMA-B-1325
City of Ashford | City Hall, 525 North Broadway Street, Ashford, AL 36312.
City of Dothan | City Hall, 126 North Saint Andrews Street, Dothan, AL 36303.
Town of Avon | Avon Town Hall, 732 Broadway Avenue, Ashford, AL 36312.
Town of Columbia | Town Hall, 203 South Washington Street, Columbia, AL 36319.
Town of Cottonwood | Town Hall, 1414 Metcalf Street, Cottonwood, AL 36320.
Town of Cowarts | Town Hall, 800 Jester Street, Cowarts, AL 36321.
Town of Gordon | Town Hall, 692 Tifton Road, Gordon, AL 36343.
Town of Kinsey | Town Hall, 6947 Walden Drive, Kinsey, AL 36303.
Town of Madrid | Town Hall, 764 Decatur Road, Madrid, AL 36320.
Town of Rehobeth | Town Hall, 5449 County Road 203, Rehobeth, AL 36301.
Town of Taylor | Town Hall, 1469 South County Road 59, Taylor, AL 36301.
Unincorporated Areas of Houston County | Houston County Engineer's Office, 2400 Columbia Highway, Dothan, AL 36303.
Atchison County, Kansas, and Incorporated Areas
Docket No.: FEMA-B-1334
City of Atchison | City Hall, 515 Kansas Avenue, Atchison, KS 66002.
City of Huron | City Hall, 206 South 3rd Street, Huron, KS 66041.
City of Muscotah | City Hall, 604 Kansas Avenue, Atchison, KS 66058.
Unincorporated Areas of Atchison County | Atchison County Courthouse, 423 North 5th Street, Atchison, KS 66002.
Gregg County, Texas, and Incorporated Areas
Docket No.: FEMA-B-1247
City of Clarksville City | City Hall, 631 U.S. Highway 80 and White Street, Clarksville City, TX 75693.
City of Easton | Easton City Hall, 185 Kennedy Boulevard, Longview, TX 75603.
City of Gladewater | City Hall, 519 East Broadway, Gladewater, TX 75647.
City of Kilgore | City Hall, 815 North Kilgore Street, Kilgore, TX 75662.
City of Lakeport | Lakeport City Hall, 207 Milam Road, Longview, TX 75603.
City of Longview | Development Services and Engineering Department, 410 South High Street, Longview, TX 75601.
City of Warren City | Warren City, City Hall, 3004 George Richey Road, Gladewater, TX 75647.
City of White Oak | City Hall, 906 South White Oak Road, White Oak, TX 75693.
Unincorporated Areas of Gregg County | Gregg County Courthouse, 101 East Methvin, Longview, TX 75601.
Harrison County, Texas, and Incorporated Areas
Docket No.: FEMA-B-1250
City of Hallsville | City Hall, 115 West Main Street, Hallsville, TX 75650.
City of Longview | Development Services and Engineering Department, 410 South High Street, Longview, TX 75601.
City of Marshall | City Hall, 401 South Alamo Street, Marshall, TX 75670.
City of Uncertain | City Hall, 199 Cypress Drive, Uncertain, TX 75661.
City of Waskom | City Hall, 430 West Texas Avenue, Waskom, TX 75692.
Town of Scottsville | Scottsville Town Hall, 177 Green Street, Marshall, TX 75672.
Unincorporated Areas of Harrison County | Harrison County Environmental Health Department, Road and Bridge Building, 3800 Five Notch Road, Marshall, TX 75670.
Walworth County, Wisconsin, and Incorporated Areas
Docket No.: FEMA-B-1329
City of Whitewater | City Hall, 312 West Whitewater Street, Whitewater, WI 53190.
Unincorporated Areas of Walworth County | Office of Emergency Management, 1770 County Road NN, Elkhorn, WI 53121.
Village of Darien | Village Hall, 20 North Wisconsin Avenue, Darien, WI 53114.

II. Watershed-Based Studies

Upper Alabama Watershed
Community | Community Map Repository Address
Autauaga County, Alabama, and Incorporated Areas
Docket No.: FEMA-B-1325
City of Millbrook | City Hall, 3390 Main Street, Millbrook, AL 36054.
City of Prattville | Planning Department, 102 West Main Street, Prattville, AL 36067.
Town of Autaugaville | Autauga County Emergency Management Agency, 826 Gillespie Street, Prattville, AL 36067.
Town of Billingsley | Autauga County Emergency Management Agency, 826 Gillespie Street, Prattville, AL 36067.
Unincorporated Areas of Autauga County | Autauga County Emergency Management Agency, 826 Gillespie Street, Prattville, AL 36067.
Dallas County, Alabama, and Incorporated Areas
Docket No.: FEMA-B-1325
City of Selma | City Hall, 222 Broad Street, Selma, AL 36701.
City of Valley Grande | City Hall, 5914 Alabama Highway 22, Valley Grande, AL 36701.
Unincorporated Areas of Dallas County | Dallas County Courthouse, 105 Lauderdale Street, Selma, AL 36701.
Elmore County, Alabama, and Incorporated Areas
Docket No.: FEMA-B-1325
City of Millbrook | City Hall, 3390 Main Street, Millbrook, AL 36054.
City of Prattville | Planning Department, 102 West Main Street, Prattville, AL 36067.
City of Wetumpka | City Hall, 408 South Main Street, Wetumpka, AL 36092.
Town of Coosada | Town Hall, 5800 Coosada Road, Coosada, AL 36020.
Town of Deatsville | City Hall, 408 South Main Street, Wetumpka, AL 36092.
Town of Elmore | Town Hall, 485 Jackson Street, Elmore, AL 36025.
Unincorporated Areas of Elmore County | Elmore County Highway Department, 155 County Shop Road, Wetumpka, AL 36092.
Lowndes County, Alabama, and Incorporated Areas
Docket No.: FEMA-B-1325
Town of Benton | Town Hall, 379 Washington Street, Benton, AL 36785.
Town of White Hall | Town Hall, 989 Freedom Road, Lowndesboro, AL 36752.
Unincorporated Areas of Lowndes County | Lowndes County Courthouse, 1 South Washington Street, Hayneville, AL 36040.

(Catalog of Federal Domestic Assistance No. 97.022, “Flood Insurance.”)

Dated: July 11, 2014.
Roy E. Wright,
Deputy Associate Administrator for Mitigation, Department of Homeland Security, Federal Emergency Management Agency.

[FR Doc. 2014-18240 Filed 7-31-14; 8:45 am]

BILLING CODE 9110-12-P